DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping and countervailing duty orders and findings with December anniversary dates. In accordance with our regulations, we are initiating those administrative reviews.

DATES: Effective Date: January 28, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with December anniversary dates.

All deadlines for the submission of various types of information, certifications, or comments or actions by the Department discussed below refer to the number of calendar days from the applicable starting date.

Notice of No Sales

Under 19 CFR 351.213(d)(3), the Department may rescind a review where there are no exports, sales, or entries of subject merchandise during the respective period of review (“POR”) listed below. If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide From the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days after publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently completed segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than December 31, 2011.

| Period to be reviewed
Antidumping Duty Proceedings
ARGENTINA: Honey A-357-812 | 12/01/09-11/30/10
AGLH S.A.
Algodonera Avellaneda S.A.
Alimentos Naturales-Natural Foods Lavalle
Alma Pura S.A.
Apidouro Comercial Exportadora E Importadora Ltda
Bomare S.A.
Compania Apicola Argentina S.A.
Compania Inversora Platense S.A.
El Mana S.A.
HoneyMax S.A.
Industrial Haedo S.A.
Interrupcion S.A.
Mielar S.A.
Miel Ceta SRL
Nexco S.A.
Patagonik SA
Productos Afer S.A.
Seabird Argentina S.A.
TransHoney S.A.
Villamore S.A.
INDIA: Carbazole Violet Pigment 23 A-533-838 | 12/1/09-11/30/10
Meghmani Pigments ³
Certain Hot-Rolled Carbon Steel Flat Products A-533-820 | 12/1/09-11/30/10
Ispat Industries, Ltd.
JSW Steel Limited
Tata Steel Limited
THE PEOPLE'S REPUBLIC OF CHINA: Carbazole Violet Pigment 23 ⁴ A-570-892 | 12/1/09-11/30/10
Toyo Ink Mfg. Co., Ltd.
Certain Cased Pencils ⁵ A-570-827 | 12/1/09-11/30/10
Beijing Fila Dixon Stationery Company, Ltd. a/k/a Beijing Dixon Ticonderoga Stationery Company, Ltd. a/k/a Beijing Dixon Stationery Company, Ltd. and Dixon Ticonderoga Company
Shandong Rongxin Import & Export Co., Ltd.
Hand Trucks and Parts Thereof ⁶ A-570-891 | 12/1/09-11/30/10
New-Tec Integration (Xiamen) Co., Ltd.
Honey ⁷ A-570-863 | 12/1/09-11/30/10
Ahcof Industrial Development Corp., Ltd.
Alfred L. Wolff (Beijing) Co., Ltd.
Anhui Honghui Foodstuff (Group) Co., Ltd.
Anhui Honghui Import & Export Trade Co., Ltd.
Anhui Cereals Oils and Foodstuffs I/E (Group) Corporation
Anhui Hundred Health Foods Co., Ltd.
Anhui Native Produce Imp & Exp Corp.
APM Global Logistics (Shanghai) Co.
Baiste Trading Co., Ltd.
Cheng Du Wai Yuan Bee Products Co., Ltd.
Chengdu Stone Dynasty Art Stone
Damco China Limited Qingdao Branch
Dongtai Peak Honey Industry Co., Ltd.
Eurasia Bee's Products Co., Ltd.
Feidong Foreign Trade Co., Ltd.
Fresh Honey Co., Ltd. (formerly Mgl. Yun Shen)
Golden Tadco Int'l
Hangzhou Golden Harvest Health Industry Co., Ltd.
Haoliluck Co., Ltd.
Hengjide Healthy Products Co. Ltd.
Hubei Yusun Co., Ltd.
Inner Mongolia Altin Bee-Keeping
Inner Mongolia Youth Trade Development Co., Ltd.
Jiangsu Cereals, Oils Foodstuffs Import Export (Group) Corp.
Jiangsu Kanghong Natural Healthfoods Co., Ltd.
Jiangsu Light Industry Products Imp & Exp (Group) Corp.
Jilin Province Juhui Import
Maersk Logistics (China) Company Ltd.
Nefelon Limited Company
Ningbo Shengye Electric Appliance
Ningbo Shunkang Health Food Co., Ltd.
Ningxia Yuehai Trading Co., Ltd.
Product Source Marketing Ltd.
Qingdao Aolan Trade Co., Ltd.
QHD Sanhai Honey Co., Ltd.
Qinhuangdao Municipal Dafeng Industrial Co., Ltd.
Renaissance India Mannite
Shaanxi Youthsun Co., Ltd.
Shanghai Bloom International Trading Co., Ltd.
Shanghai Foreign Trade Co., Ltd.
Shanghai Hui Ai Mal Tose Co., Ltd.
Shanghai Taiside Trading Co., Ltd.
Shine Bal Co., Ltd.
Sichuan-Dujiangyan Dubao Bee Industrial Co., Ltd.
Silverstream International Co., Ltd.
Sunnice Honey
Suzhou Aiyi IE Trading Co., Ltd.
Suzhou Shanding Honey Product Co., Ltd.
Tianjin Eulia Honey Co., Ltd.
Tianjin Weigeda Trading Co., Ltd.
Wanxi Haohua Food Co., Ltd.
Wuhan Bee Healthy Co., Ltd.
Wuhan Shino-Food Trade Co., Ltd.
Wuhu Anjie Food Co., Ltd.
Wuhu Deli Foods Co. Ltd.
Wuhu Fenglian Co., Ltd.
Wuhu Qinshi Tangye
Xinjiang Jinhui Food Co., Ltd.
Youngster International Trading Co., Ltd.
Zhejiang Willing Foreign Trading Co.
Countervailing Duty Proceedings
ARGENTINA: Honey C-357-813 | 1/1/10-12/31/10
INDIA: Certain Hot-Rolled Carbon Steel Flat Products C-533-821 | 1/1/10-12/31/10
Ispat Industries Limited
Suspension Agreements
None
³ Successor-in-interest to Alpanil Industries (75 FR 62765, 10/13/2010).
⁴ If the above named company does not qualify for a separate rate, all other exporters of Carbazole Violet Pigment 23 from the People's Republic of China (“PRC”) who have not qualified for a separate rate are deemed to be covered by this review as part of the single PRC entity of which the named exporters are a part.
⁵ If one of the above named companies does not qualify for a separate rate, all other exporters of Certain Cased Pencils from the PRC who have not qualified for a separate rate are deemed to be covered by this review as part of the single PRC entity of which the named exporters are a part.
⁶ If the above named company does not qualify for a separate rate, all other exporters of Hand Trucks and Parts Thereof from the PRC who have not qualified for a separate rate are deemed to be covered by this review as part of the single PRC entity of which the named exporters are a part.
⁷ If one of the above named companies does not qualify for a separate rate, all other exporters of Honey from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.101(d)).

These initiations and this notice are in accordance with section 751(a) of the Tariff Act of 1930, as amended (19 U.S.C. 1675(a)), and 19 CFR 351.221(c)(1)(i).

Dated: January 24, 2011.
Christian Marsh,
Deputy Assistant Secretary for Antidumping and Countervailing Duty Operations.

[FR Doc. 2011-1958 Filed 1-27-11; 8:45 am]

BILLING CODE 3510-DS-P